SECURITIES AND EXCHANGE COMMISSION

In the Matter of Midwest Oil and Gas, Inc., File No. 500-1; Order of Suspension of Trading

May 9, 2016.

It appears to the Securities and Exchange Commission that the public interest and the protection of investors require a suspension of trading in the securities of Midwest Oil and Gas, Inc. (CIK No. 1486315) because of recent, unusual and unexplained market activity in the company's stock taking place during a suspicious promotional campaign. Midwest Oil and Gas, Inc. is a Nevada corporation with its principal executive offices in Payson, Arizona, with stock quoted on OTC Link (previously “Pinks Sheets”) operated by OTC Markets Group, Inc. under the ticker symbol MWOG.

THEREFORE, IT IS ORDERED, pursuant to Section 12(k) of the Securities Exchange Act of 1934, that trading in the securities of the above-listed company is suspended for the period from 9:30 a.m. EDT on May 9, 2016, through 11:59 p.m. EDT on May 20, 2016.

By the Commission.
Lynn M. Powalski,
Deputy Secretary.

[FR Doc. 2016-11183 Filed 5-9-16; 11:15 am]

BILLING CODE 8011-01-P